DEPARTMENT OF COMMERCE

National Oceanic and Atmospheric Administration

[RTID 0648-XF207]

Endangered Species; File No. 28294

AGENCY: National Marine Fisheries Service (NMFS), National Oceanic and Atmospheric Administration (NOAA), Commerce.

ACTION: Notice; receipt of application for a permit modification.

SUMMARY: Notice is hereby given that Matthew Fisher, Normandeau Associates, Inc., 2233 Spring Street, West Lawn, PA 19609, has requested a modification to scientific research Permit No. 28294.

DATES: Written comments must be received on or before January 5, 2026.

ADDRESSES: The modification request and related documents are available for review by selecting “Records Open for Public Comment” from the Features box on the Applications and Permits for Protected Species home page, https://apps.nmfs.noaa.gov, and then selecting File No. 28294 Mod #2 from the list of available applications. These documents are also available upon written request via email to NMFS.Pr1Comments@noaa.gov.

Written comments on this application should be submitted via email to NMFS.Pr1Comments@noaa.gov. Please include File No. 28294 in the subject line of the email comment.

Those individuals requesting a public hearing should submit a written request via email to NMFS.Pr1Comments@noaa.gov. The request should set forth the specific reasons why a hearing on this application would be appropriate.

FOR FURTHER INFORMATION CONTACT: Erin Markin, Ph.D., or Shasta McClenahan, Ph.D., (301) 427-8401.

SUPPLEMENTARY INFORMATION: The subject modification to Permit No. 28294, issued on December 11, 2024 (90 FR 3803, January 15, 2025), is requested under the authority of the Endangered Species Act of 1973, as amended (16 U.S.C. 1531 et seq.) and the regulations governing the taking, importing, and exporting of endangered and threatened species (50 CFR parts 222-226).

Permit No. 28294 authorizes the permit holder to capture Atlantic (Acipenser oxyrinchus) and shortnose (A. brevirostrum) sturgeon by gill net or trawl in the Delaware River, measure, weigh, biologically sample (tissue), mark (passive integrated transponder [PIT]), and photograph/video, prior to release. Sub-sets of Atlantic and shortnose sturgeon may be anesthetized and implanted with acoustic transmitters, gastric lavaged, and fin ray sampled. The permit authorizes one unintentional mortality of shortnose sturgeon and one Atlantic sturgeon annually, but no more than two of each species over the life of the permit. The permit expires on January 31, 2035.

The permit holder requests authorization to conduct research off the coasts of New York and New Jersey to better understand temporal and spatial movement, occurrence and behavior of Atlantic sturgeon. Up to 150 adult/sub-adult Atlantic sturgeon may be captured annually by gill net, anesthetized, implanted with acoustic transmitters, marked (PIT), measured, photographed/videoed, biologically sampled, and weighed, prior to release. A subset of captured sturgeon may receive a satellite tag. The permit holder requests one unintentional mortality of an Atlantic sturgeon in this new research area over the life of the permit.

Dated: December 1, 2025.
Shannon Bettridge,
Chief, Marine Mammal and Sea Turtle Conservation Division, Office of Protected Resources, National Marine Fisheries Service.

[FR Doc. 2025-21942 Filed 12-3-25; 8:45 am]

BILLING CODE 3510-22-P